NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Cyberinfrastructure (25150).

Date and Time: November 1, 2017; 8:30 a.m.-5:00 p.m., November 2, 2017; 8:30 a.m.-5:00 p.m.

Place: National Science Foundation, 2415 Eisenhower Avenue, Room E3430, Alexandria, VA 22314.

Type of Meeting: Open.

Contact Person: Amy Friedlander, CISE, Division of Advanced Cyberinfrastructure, National Science Foundation, 2415 Eisenhower Avenue, Alexandria, VA 22314; Telephone: 703-292-8970.

Minutes: May be obtained from the contact person listed above.

Purpose of Meeting: To advise NSF on the impact of its policies, programs and activities in the ACI community. To provide advice to the Director/NSF on issues related to long-range planning.

Agenda: Updates on NSF wide ACI activities.

Dated: September 12, 2017.
Crystal Robinson,
Committee Management Officer.

[FR Doc. 2017-19606 Filed 9-14-17; 8:45 am]

BILLING CODE 7555-01-P